DEPARTMENT OF TRANSPORTATION

Federal Transit Administration

Notice to Rescind Notice of Intent To Prepare an Environmental Impact Statement and Environmental Assessment for the I-20 East Transit Initiative in the City of Atlanta and DeKalb County, Georgia

AGENCY: Federal Transit Administration (FTA), DOT.

ACTION: Rescind Notice of Intent to prepare an environmental impact statement and environmental assessment.

SUMMARY: The FTA in cooperation with the Metropolitan Atlanta Rapid Transit Authority (MARTA) is issuing this notice to advise the public that the Notice of Intent (NOI) to prepare an Environmental Impact Statement (EIS) and Environmental Assessment (EA) for the proposed public transportation improvement project in the City of Atlanta and DeKalb County, Georgia is being rescinded.

FOR FURTHER INFORMATION CONTACT: Mr. Stan Mitchell, Environmental Protection Specialist, Federal Transit Administration Region IV, 230 Peachtree Street NW., Atlanta, GA 30303, phone 404-865-5643, email stanley.a.mitchell@dot.gov.

SUPPLEMENTARY INFORMATION: The FTA, as lead federal agency, and MARTA published a NOI on August 28, 2012 (77 FR 52128) to prepare an EIS and EA for the MARTA I-20 East Transit Initiative project. This project would extend the existing east-west rail Heavy Rail Transit (HRT) line from the Indian Creek Station to the Mall at Stonecrest in eastern DeKalb County and also create a new Bus Rapid Transit (BRT) service along I-20 between downtown Atlanta and a new station at Wesley Chapel Road, east of I-285 in DeKalb County.

Since that time, FTA and MARTA have conducted scoping activities which have led to reevaluating the project in terms of Purpose and Need. Based on these scoping activities, FTA is rescinding the August 28, 2012 NOI, and, in today's issue of the Federal Register, is issuing a new NOI for the HRT extension. The environmental impacts of the BRT service along I-20 will be evaluated as a separate project in an environmental assessment. No changes will be made to the HRT or BRT services as described in the August 28, 2012 NOI. Comments and questions concerning the proposed action should be directed to FTA at the address provided above.

Yvette G. Taylor,
Regional Administrator, FTA Region IV.

[FR Doc. 2014-26768 Filed 11-12-14; 8:45 am]

BILLING CODE P